Proclamation 10247 of August 31, 2021

National Sickle Cell Awareness Month, 2021

By the President of the United States of America

A Proclamation

Today, 100,000 Americans live with sickle cell disease (SCD). The genetic disease, named for the sickle-shaped red blood cells it causes, leads to severe pain, serious infections, and organ damage. The severity of SCD varies, with many people facing a shortened life expectancy and a host of recurring, debilitating, and expensive health problems.

This condition also disproportionately affects Black and Brown Americans, with an estimated 1 in 365 Black Americans and 1 in 14,000 Hispanic Americans suffering from it. As President, I am committed to supporting those who have been hit the hardest by SCD. And during National Sickle Cell Awareness month, our Nation reaffirms our commitment to improving the quality of life and health outcomes for all individuals living with SCD.

Our Nation's extraordinary medical professionals and scientists are working tirelessly to find a cure and develop improved treatments for SCD. Recent scientific advances have led to effective approaches for managing SCD and preventing complications, including new drug therapies approved by the Food and Drug Administration. And while current treatments may not be universally effective, researchers continue to improve existing treatments, such as bone marrow transplants that can effectively cure SCD in some patients. The National Institutes of Health (NIH) has continued supporting SCD research, education, and capacity building, including the “Cure Sickle Cell Initiative” to accelerate safe, effective, and scalable gene therapies to cure the disease. As a result of the many advances and medical breakthroughs in genetic therapies and research, we are now closer to finding a cure for all SCD patients.

My Administration is committed to following science, delivering breakthroughs, eliminating health disparities facing communities of color and other underserved communities, and promoting the health and wellness of all Americans.

We will continue our efforts to improve the lives and livelihoods of individuals struggling with SCD by improving access to quality health care, collaborating with our partners in the public and private sectors, adhering to the guidance of scientific experts and researchers, and supporting all families affected by SCD.

This month, we celebrate the progress made in treating Americans suffering from SCD and we stand together to improve the health of those living with this disease.

NOW, THEREFORE, I, JOSEPH R. BIDEN JR., President of the United States of America, by virtue of the authority vested in me by the Constitution and the laws of the United States, do hereby proclaim September 2021 as National Sickle Cell Awareness Month. I call upon the people of the United States to learn more about the progress we are making to reduce the burden of this disease on our fellow Americans.

IN WITNESS WHEREOF, I have hereunto set my hand this thirty-first day of August, in the year of our Lord two thousand twenty-one, and of the Independence of the United States of America the two hundred and forty-sixth.

[FR Doc. 2021-19328

Filed 9-2-21; 11:15 am]

Billing code 3295-F1-P